DEPARTMENT OF TRANSPORTATION

National Highway Traffic Safety Administration

[Docket No. NHTSA-2024-0050]

Notice of Technical Workshop and Demonstrations for Vehicle Classification Test Procedure: Extension of Comment Period

AGENCY: National Highway Traffic Safety Administration (NHTSA), Department of Transportation (DOT).

ACTION: Extension of comment period.

SUMMARY: NHTSA is extending the comment period for the notice NHTSA published on October 29, 2024, seeking public comment on draft test procedure (TP) number TP-523-00, which is intended to assess vehicles for compliance with certain off-road capabilities requirements for vehicle classification within the Corporate Average Fuel Economy (CAFE) program. The comment period for the RFC notice was scheduled to end on November 30, 2024. NHTSA is extending the comment period for the notice to February 28, 2025, to allow for additional time to submit comments.

DATES: The comment period for the notice published on October 29, 2024, at 89 FR 86077, is extended to February 28, 2025.

ADDRESSES:

Workshop and Demonstration Location: The workshop and demonstration will be held at the McNease Convention Center in San Angelo, Texas. Directions to the meeting location and final agenda will be sent to registered participants as well as posted on the NHTSA Public Information Center (PIC) at https://www.nhtsa.gov/corporate-average-fuel-economy/cafe-public-information-center.

Documents for Comment: NHTSA's Office of Vehicle Safety Compliance (OVSC) laboratory test procedure TP-523-00, described in this RFC, is available for viewing in PDF format in this Docket, as identified in the heading of this document.

Comments: You may submit comments to the Docket, identified as the docket number in the head of this document, by any of the following methods:

• Federal rulemaking Portal: To submit comments electronically, go to the U.S. Government regulations website at https://www.regulations.gov. Follow the online instructions for submitting comments.

• Fax: Written comments may be faxed to 202-493-2251.

• Mail: Send comments to: Docket Management Facility, U.S. Department of Transportation, 1200 New Jersey Avenue SE, West Building Ground Floor, Room W12-140, Washington, DC 20590-0001.

• Hand Delivery: If you submit written comments by hand or courier, please do so at 1200 New Jersey Avenue SE, West Building Ground Floor, Room W12-140, Washington, DC between 9 a.m. and 5 p.m. Eastern Time, Monday through Friday, except Federal holidays. To be sure someone is there to help you, please call 202-366-9826 before coming.

Instructions: For detailed instructions on submitting comments and additional information, see the Public Participation section of this document, which can be found below. Note that all comments received will be posted to https://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy. If you wish to provide comments containing proprietary or confidential information, please follow the instructions in the section of this notice titled “How do I submit confidential business information?”

FOR FURTHER INFORMATION CONTACT:

To register for event attendance: Please contact Ms. Tuwana Taft, Office of Vehicle Safety Compliance, National Highway Traffic Safety Administration, 1200 New Jersey Avenue SE, Washington, DC 20590. Telephone: (202) 366-1008. Email: tuwana.taft@dot.gov. Participants must register in order for NHTSA to determine an approximate head count and in order for NHTSA to deliver site details and a final agenda to all participants. Attendance will not be permitted without prior registration.

For technical issues: Mr. Michael Brace, Compliance Engineer, Office of Vehicle Safety Compliance, National Highway Traffic Safety Administration, 1200 New Jersey Ave SE, Washington, DC 20590. Telephone: 313-218-2265. Email: michael.brace@dot.gov.

For legal issues: Mr. Paul Connet, Attorney-Advisor, Office of the Chief Counsel, National Highway Traffic Safety Administration, 1200 New Jersey Avenue SE, Washington, DC 20590. Telephone: 202-366-5547. Email: paul.connet@dot.gov.

SUPPLEMENTARY INFORMATION: On May 2, 2022, NHTSA published a final rule which stated the agency's intention to use a new test procedure to validate non-passenger automobile (“light truck”) classification data provided by manufacturers in their pre-model reports submitted under 49 CFR part 537.¹ NHTSA published a Federal Register notice on October 29, 2024, providing a draft version of TP-523-00 for comment. TP-523-00 is intended to improve NHTSA's ability to verify light truck compliance with 49 CFR 523.5(b)(2)(i.-v.) by providing guidelines for a uniform testing and information recording format for contracting laboratories who perform testing for NHTSA.

¹ 87 FR 26025.

To provide further information to stakeholders regarding how TP-523-00 would work in practice, NHTSA will hold a demonstration that stakeholders may attend in person. The scope of this demonstration is strictly limited to issues surrounding the implementation of the OVSC Laboratory Test Procedure TP-523. In order to provide additional time for comments to be submitted, NHTSA is extending the comment period to February 28, 2025.

Otto G. Matheke, III,
Director, Office of Vehicle Safety Compliance.

[FR Doc. 2024-29270 Filed 12-11-24; 8:45 am]

BILLING CODE 4910-59-P